FEDERAL COMMUNICATIONS COMMISSION

47 CFR Part 43

[CC Docket Nos. 98-137, ASD File No. 98-91; FCC 99-397]

1998 Biennial Regulatory Review—Review of the Depreciation Requirements for Incumbent Local Exchange Carriers

AGENCY: Federal Communications Commission.

ACTION: Final rule; announcement of effective date.

SUMMARY: This document announces the effective date of the rules published in the Federal Register on April 10, 2000. These rules amend the Commission's rules governing the depreciation requirements for price cap incumbent local exchange carriers. The Commission details the reporting and data requirements that the carriers must comply with when they want to change their prescribed depreciation rate.

DATES: Section 43.43 paragraphs (c) and (e) published at 65 FR 18926 (April 10, 2000) became effective on June 29, 2000.

FOR FURTHER INFORMATION CONTACT: Tim Peterson, Deputy Division Chief, Accounting Safeguards Division, Common Carrier Bureau, (202-418-1575).

SUPPLEMENTARY INFORMATION: On June 19, 2000 Office of Management and Budget (OMB) approved the amendment to the depreciation rate rules § 43.43 (c) and (e) pursuant to OMB Control No. 3060-0168. Accordingly, the rules in § 43.43 (c) and (e) became effective on June 29, 2000.

List of Subjects in 47 CFR Part 43

Communications common carriers, Radio, Reporting and recordkeeping requirements, Telegraph, Telephone.

Federal Communications Commission.
William F. Caton,
Acting Secretary.

[FR Doc. 02-7262 Filed 3-26-02; 8:45 am]

BILLING CODE 6712-01-P